DEPARTMENT OF ENERGY

Federal Energy Regulatory Commission

Notice of Effectiveness of Exempt Wholesale Generator or Foreign Utility Company Status

May 28, 2010.

CER Generation, LLC | Docket No. EG10-18-000
Day County Wind, LLC | Docket No. EG10-19-000
Northeastern Power Company | Docket No. EG10-20-000
EC&R Papalote Creek II, LLC | Docket No. EG10-22-000
EDF EN Canada Inc. | Docket No. FC10-1-000

Take notice that during the month of April 2010, the status of the above-captioned entities as Exempt Wholesale Generators or Foreign Utility Companies became effective by operation of the Commission's regulations, 18 CFR 366.7(a).

Kimberly D. Bose,
Secretary.

[FR Doc. 2010-13556 Filed 6-7-10; 8:45 am]

BILLING CODE 6717-01-P